DEPARTMENT OF COMMERCE

National Oceanic and Atmospheric Administration

RIN 0648-XD363

Mid-Atlantic Fishery Management Council (MAFMC); Public Meeting

AGENCY: National Marine Fisheries Service (NMFS), National Oceanic and Atmospheric Administration (NOAA), Commerce.

ACTION: Notice of public meetings.

SUMMARY: The Mid-Atlantic Fishery Management Council's (MAFMC) Bluefish Monitoring Committee and Summer Flounder, Scup, and Black Sea Bass Monitoring Committee will hold public meetings.

DATES: The Monitoring Committees will meet on Friday, July 25, from 9 a.m. until 2:30 p.m. See SUPPLEMENTARY INFORMATION for meeting agendas.

ADDRESSES: The meeting will be held via webinar, accessible at: http://mafmc.adobeconnect.com/mc/. Audio-only connection details will be posted at http://www.mafmc.org/prior to the meeting.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Bluefish Monitoring Committee will meet from 9 a.m. to 10 a.m. on Friday, July 25 to discuss and recommend 2015 annual catch targets (ACTs) and other associated management measures for the bluefish fishery. The Summer Flounder, Scup, and Black Sea Bass Monitoring Committee will meet from 10 a.m. to 2: 30 p.m. to review and discuss previously implemented 2015 annual catch targets (ACTs) and other associated management measures for the summer flounder, scup, and black sea bass fisheries. The Summer Flounder, Scup, and Black Sea Bass Monitoring Committee may consider recommending changes to the implemented 2015 ACTs and management measures as necessary. Meeting materials will be posted to http://www.mafmc.org/prior to the meeting.

Special Accommodations

The meeting is physically accessible to people with disabilities. Requests for sign language interpretation or other auxiliary aids should be directed to M. Jan Saunders at the Mid-Atlantic Council Office, (302) 526-5251, at least 5 days prior to the meeting date.

Dated: July 1, 2014.
Tracey L. Thompson,
Acting Deputy Director, Office of Sustainable Fisheries, National Marine Fisheries Service.

[FR Doc. 2014-15775 Filed 7-3-14; 8:45 am]

BILLING CODE 3510-22-P